NATIONAL AERONAUTICS AND SPACE ADMINISTRATION

[Notice (12-063)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 6, 2012.

FOR FURTHER INFORMATION CONTACT: Kaprice L. Harris, Attorney Advisor, Glenn Research Center at Lewis Field, Code 500-118, Cleveland, OH 44135; telephone (216) 433-5754; fax (216) 433-6790.

NASA Case No.: LEW-18340-2: Offset Compound Gear Inline Two Speed Drive;

NASA Case No.: LEW-18313-2: Chalcogenide Nanoionic-Based Radio Frequency Switch;

NASA Case No.: LEW-18601-1: Inductive Power Device;

NASA Case No.: LEW-18566-1: Low Density, High Creep Resistant Single Crystal Superalloy with Lower Manufacturing Cost;

NASA Case No.: LEW-18362-2: Space Radiation Detector with Spherical Geometry;

NASA Case No.: LEW-18771-1: Integrated Temperature and Capacitive Ablation Recession Rate Sensors;

NASA Case No.: LEW-18473-1: Ka-Band Waveguide 2-Way Hybrid Combiner for MMIC Amplifiers with Unequal and Arbitrary Power Output Ratio;

NASA Case No.: LEW-18254-2: Simultaneous Non-Contact Precision Imaging of Microstructural and Thickness Variation in Dielectric Materials Using Terahertz Energy;

NASA Case No.: LEW-18724-1: Vessel Generation Analysis;

NASA Case No.: LEW-18639-1: Atomic Oxygen Fluence Monitor;

NASA Case No.: LEW-18042-2: Process for Preparing Polymer Reinforced Silica Aerogels;

NASA Case No.: LEW-18076-2: Dust Removal from Solar Cells;

NASA Case No.: LEW-18236-2: Polyimides Derived From Novel Asymmetric Benzophenone Dianhydrides;

NASA Case No.: LEW-17877-2: Antenna Near-Field Probe Station Scanner;

NASA Case No.: LEW-18631-1: Circuit for Communication Over Power Lines;

NASA Case No.: LEW-18608-1: Method for Making Fuel Cell;

NASA Case No.: LEW-18483-1: Interference-Free Optical Detection for Raman Spectroscopy;

NASA Case No.: LEW-18714-1: High Strength Nanocomposite Glass Fibers;

NASA Case No.: LEW-18605-1: Electric Propulsion Apparatus;

NASA Case No.: LEW-18762-1: Selenium Interlayer for High-efficiency Multijunction Solar Cell;

NASA Case No.: LEW-18426-1: Dual-Mode Combustor;

NASA Case No.: LEW-18615-1: Purify Nanomaterials;

NASA Case No.: LEW-18632-1: Method for Fabricating Diamond-Dispersed Fiber-Reinforced Composite Coating On Low Temperature Sliding Thrust Bearing Interfaces;

NASA Case No.: LEW-18492-1: Synthesis Methods, Microscopy Characterization and Device Integration of Nanoscale Metal Oxide Semiconductors for Gas Sensing in Aerospace Applications;

NASA Case No.: LEW-18636-1: N Channel JFET Based Digital Logic Gate Structure;

NASA Case No.: LEW-18634-1: Multi-Parameter Scattering Sensor and Methods;

NASA Case No.: LEW-18586-1: Shock Sensing Apparatus;

NASA Case No.: LEW-18221-2: Method and Apparatus for Thermal Spraying of Metal Coatings Using Pulsejet Resonant Pulsed Combustion;

NASA Case No.: LEW-18619-1: Method to Transmit and Receive Video on Preexisting Wiring in Fixed and Mobile Structures;

NASA Case No.: LEW-17458-2: Compact Solid State Entangled Photon Source;

NASA Case No.: LEW-17634-2: Method for Making a Fuel Cell;

NASA Case No.: LEW-18649-1: Ultracapacitor Based Uninterruptible Power Supply (UPS) System;

NASA Case No.: LEW-18648-1: Epoxy-clay Nanocomposites;

NASA Case No.: LEW-18594-1: Thermomechanical Methodology for Stabilizing Shape Memory Alloy (SMA) Response;

NASA Case No.: LEW-18717-1: A High-Efficiency Power Module;

NASA Case No.: LEW-18785-1: Prestressing Shock Resistant Mechanical Components and Mechanisms Made From Hard, Superelastic Materials;

NASA Case No.: LEW-18432-2: Method for Providing Semiconductors Having Self-Aligned Ion Implant;

NASA Case No.: LEW-18604-1: Mechanical Components From Highly Recoverable Low Apparent Modulus Materials;

NASA Case No.: LEW-18614-1: High-Temperature Thermometer Using Cr-Doped GdAlO3 Broadband Luminescence;

NASA Case No.: LEW-18761-1: Surface Temperature Measurement Using Hematite Coating;

NASA Case No.: LEW-18296-1: Modular Battery Controller;

NASA Case No.: LEW-18658-1: Levitating Electromagnetic Generator and Method of Using the Same;

NASA Case No.: LEW-18248-1: Cellular Reflectarray Antenna and Method of Making Same;

NASA Case No.: LEW-17916-2: Carbon Dioxide Gas Sensors and Method of Manufacturing and Using Same;

NASA Case No.: LEW-18542-1: Functionalization of Single Wall Carbon Nanotubes (SWCNTs) by Photooxidation;

NASA Case No.: 18477-1: Graphene Based Reversible Nano-Switch/Sensor Schottky Diode (nanoSSSD) Device.

Sumara M. Thompson-King,
Acting Deputy General Counsel.

[FR Doc. 2012-21913 Filed 9-5-12; 8:45 am]

BILLING CODE P